DEPARTMENT OF HEALTH AND HUMAN SERVICES

National Institutes of Health

Eunice Kennedy Shriver National Institute of Child Health and Human Development; Notice of Meeting

Pursuant to section 10(a) of the Federal Advisory Committee Act, as amended (5 U.S.C. App.), notice is hereby given of a meeting of the National Advisory Board on Medical Rehabilitation Research.

The meeting will be open to the public. Individuals planning to attend the teleconference may do so by calling the toll-free number, 866-692-3158 and entering the passcode: 2868336.

Name of Committee: National Advisory Board on Medical Rehabilitation Research.

Date: August 13, 2013.

Time: 4:00 p.m. to 5:00 p.m.

Agenda: NICHD Director will discuss his response to the recommendations in the report of the Blue Ribbon Panel for Medical Rehabilitation Research at NIH.

Place: National Institutes of Health, Building 31, 31 Center Drive, Room 2A03, Bethesda, MD 20892-2425, (Telephone Conference Call).

Contact Person: Ralph M. Nitkin, Ph.D., Director, B.S.C.D., Biological Sciences and Career Development, NCMRR, Eunice Kennedy Shriver National Institute of Child Health and Human Development, NIH, DHHS, 6100 Executive Boulevard, Room 2A03, Bethesda, MD 20892-7510, (301) 402-4206, nitkinr@mail.nih.gov.

This notice is being published less than 15 days prior to the meeting due to the need to coordinate the availability of the Board membership to participate with the Institute in reviewing the proposed response to the recommendations in the report of the Blue Ribbon Panel on Medical Rehabilitation Research at NIH.

(Catalogue of Federal Domestic Assistance Program Nos. 93.864, Population Research; 93.865, Research for Mothers and Children; 93.929, Center for Medical Rehabilitation Research; 93.209, Contraception and Infertility Loan Repayment Program, National Institutes of Health, HHS)

Dated: August 1, 2013.
Michelle Trout,
Program Analyst, Office of Federal Advisory Committee Policy.

[FR Doc. 2013-18990 Filed 8-6-13; 8:45 am]

BILLING CODE 4140-01-P